DEPARTMENT OF EDUCATION

Office of Elementary and Secondary Education; Overview Information; Enhanced Assessment Instruments; Notice Inviting Applications for New Awards for Fiscal Year (FY) 2004

Catalog of Federal Domestic Assistance (CFDA) Number: 84-368.

DATES: Applications Available: February 20, 2004.

Deadline for Transmittal of Applications: April 5, 2004.

Eligible Applicants: State Educational Agencies; Consortia of State Educational Agencies.

Estimated Available Funds: $4,484,000 in FY 2003 funds.

Estimated Range of Awards: $100,000 to $2,000,000.

Estimated Average Size of Awards: $500,000.

Estimated Number of Awards: 6.

Note: The Department is not bound by any estimates in this notice. In no case will an award be made for less than the amount specified in section 6113(2)(A)(ii) of the Elementary and Secondary Education Act of 1965, as amended (ESEA) 20 U.S.C. 7301b(b)(2).

Project period: Up to 20 months.

Full Text of Announcement

I. Funding Opportunity Description

Purpose of Program: To enhance the quality of assessment instruments and systems used by States for measuring the achievement of all students.

Priorities: These priorities are from Appendix E to the notice of final requirements for this program, published in the Federal Register on May 22, 2002 (67 FR 35967, 35979).

Competitive Preference Priorities: For FY 2004, these priorities are competitive preference priorities. Under 34 CFR 75.105(c)(2)(i) we will award up to an additional 35 points to an application, depending on the extent to which the application meets these priorities.

These priorities are: accommodations and alternate assessments (up to 15 points), collaborative efforts (up to 10 points), and dissemination beyond the original grantee or grant collaborative (up to 10 points).

Note: The full text of these priorities is included in the application package.

Program Authority: 20 U.S.C. 7842 and 20 U.S.C. 7301a.

Applicable Regulations: The Education Department General Administrative Regulations (EDGAR) in 34 CFR parts 75, 77, 80, 81, 82, 84, 85, 86, 97, 98, and 99.

II. Award Information

Type of Award: Discretionary grants.

Estimated Available Funds: $4,484,000 in FY 2003 funds.

Estimated Range of Awards: $100,000 to $2,000,000.

Estimated Average Size of Awards: $500,000.

Estimated Number of Awards: 6.

Note: The Department is not bound by any estimates in this notice. In no case will an award be made for less than the amount specified in section 6113(2)(A)(ii) of the ESEA, 20 U.S.C. 7301b(b)(2).

Project period: Up to 20 months.

III. Eligibility Information

1. Eligible Applicants: State Educational Agencies; Consortia of State Educational Agencies.

2. Cost Sharing or Matching: This competition does not involve cost sharing or matching.

3. Other: An application from a consortium of State Educational Agencies must designate one State Educational Agency as the fiscal agent.

IV. Application and Submission Information

1. Address to Request Application Package: Jacqueline Jackson, Student Achievement and School Accountability Program, U.S. Department of Education, 400 Maryland Avenue, SW., room 3W226, Washington, DC 20202-6132. Telephone: 202-260-0826 or by e-mail: Jackie.Jackson@ed.gov.

If you use a telecommunications device for the deaf (TDD), you may call the Federal Information Relay Service (FIRS) at 1-800-877-8339.

Individuals with disabilities may obtain a copy of the application package in an alternative format (e.g., Braille, large print, audiotape, or computer diskette) by contacting the program contact person listed in this section. However, the Department is not able to reproduce in an alternative format the standard forms included in the application package.

2. Content and Form of Application Submission:

Section 6112(a) of ESEA (20 U.S.C. 7301a(a)) requires that all funded applications demonstrate that States (or consortia of States) will—

a. Collaborate with institutions of higher education, other research institutions, or other organizations to improve the quality, validity, and reliability of State academic assessments beyond the requirements for the assessments described in section 1111(b)(3) of the ESEA;

b. Measure student academic achievement using multiple measures of student academic achievement from multiple sources;

c. Chart student progress over time; or

d. Evaluate student academic achievement through the development of comprehensive academic assessment instruments, such as performance and technology-based academic assessments.

Other requirements concerning the content of an application, together with the forms you must submit, are in the application package for this competition.

Page Limit: The application narrative (Part III of the application) is where you, the applicant, address the selection criteria that reviewers use to evaluate your application. You must limit Part III to the equivalent of no more than 40 pages, using the following standards:

• A “page” is 8.5″ x 11″, on one side only with 1″ margins at the top, bottom, and both sides.

• Double space (no more than 3 lines per vertical inch) all text and use a font no smaller than 10 point for all text in the application narrative, including titles, headings, footnotes, quotations, and captions as well as all text in charts, tables, figures, and graphs.

• Your cover sheet, budget section (chart and narrative), assurances and certifications, response regarding research activities involving human subjects, GEPA 427 response, one-page abstract, personnel resumes, and letters of support are not included in the page limit; however, discussion of how well the application meets the competitive preference priorities and how well the application addresses each of the selection criteria must be included within the page limit.

Our reviewers will not read any pages of your application that—

• Exceed the page limit if you apply these standards; or

• Exceed the equivalent of the page limit if you apply other standards.

3. Submission Dates and Times:

Applications Available: February 20, 2004.

Deadline for Transmittal of Applications: April 5, 2004.

The dates and times for the transmittal of applications by mail or by hand (including a courier service or commercial carrier) are in the application package for this competition.

We do not consider an application that does not comply with the deadline requirements.

4. Intergovernmental Review: This competition is not subject to Executive Order 12372 and the regulations in 34 CFR part 79.

5. Funding Restrictions: We reference regulations outlining funding restrictions in the Applicable Regulations section of this notice.

6. Other Submission Requirements: Instructions and requirements for the transmittal of applications by mail or by hand (including a courier service or commercial carrier) are in the application package for this competition.

V. Application Review Information

1. Selection Criteria: The selection criteria for this competition are in the application package and were published in Appendix E to the Notice of Final Requirements published in the Federal Register on May 22, 2002 (67 FR 35967, 35979).

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information as directed by the Secretary. If you receive a multi-year award, you must submit an annual performance report that provides the most current performance and financial expenditure information as specified by the Secretary in 34 CFR 75.118.

4. Performance Measures: Under the Government Performance and Results Act (GPRA), one measure has been developed for evaluating the overall effectiveness of the Enhanced Assessment Instruments program: The number of state assessment programs impacted in the first year of adoption of products or services developed under this grant award.

All grantees will be expected to submit an annual performance report documenting their success in addressing this performance measure.

VII. Agency Contact

FOR FURTHER INFORMATION CONTACT: Sue Rigney, U.S. Department of Education, 400 Maryland Avenue, SW., room 3C139, Washington, DC 20202-6132. Telephone: (202)260-0931, or by e-mail Sue.Rigney@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at www.gpoaccess.gov/nara/index.html.

Dated: February 17, 2004.
Raymond Simon,
Assistant Secretary for Elementary and Secondary Education.

[FR Doc. 04-3738 Filed 2-19-04; 8:45 am]

BILLING CODE 4000-01-P